NUCLEAR REGULATORY COMMISSION

[Docket No. 70-3103; NRC-2010-0264]

Uranium Enrichment Fuel Cycle Inspection Reports Regarding Louisiana Energy Services, National Enrichment Facility, Eunice, New Mexico, Prior to the Commencement of Operations

AGENCY: Nuclear Regulatory Commission.

ACTION: Notice of availability.

FOR FURTHER INFORMATION CONTACT: Michael Raddatz, Project Manager, Office of Nuclear Material Safety and Safeguards, U.S. Nuclear Regulatory Commission, Rockville, Maryland 20852; telephone: 301-492-3108; email: Michael.Raddatz@nrc.gov.

SUPPLEMENTARY INFORMATION:

I. Introduction

The U.S. Nuclear Regulatory Commission (NRC) staff has conducted inspections of the Louisiana Energy Services (LES), LLC, National Enrichment Facility in Eunice, New Mexico, and has authorized the introduction of uranium hexafluoride (UF6) into cascades numbered 2.9, 2.10, 2.11, 2.12, 3.1, 3.2, 3.3, 3.4, 3.5, 3.6, 3.7, 3.8, and 3.9. In addition, the NRC verified that the Phase 2a and Chemistry Laboratory of the Cylinder Receipt and Dispatch Building (CRDB) of the facility have been constructed in accordance with the requirements of the approved license. Phase 2a included the CRDB Civil Structure and CRDB shell operations such as: movement of cylinders; fire walls; transient combustible inspections; cylinder movers; and worker evacuation. The NRC staff has prepared inspection reports documenting its findings in accordance with the requirements of the NRC Inspection Manual, and these reports are available for review as specified in Section II of this notice. The publication of this notice satisfies the requirements of Section 70.32(k) of Title 10 of the Code of Federal Regulations (10 CFR), and section 193(c) of the Atomic Energy Act of 1954, as amended.

The introduction of UF6 into any module of the National Enrichment Facility is not permitted until the NRC completes an operational readiness and management measures verification review to verify that management measures that ensure compliance with the performance requirements of 10 CFR 70.61 have been implemented and confirms that the facility has been constructed in accordance with the license and will be operated safely. Subsequent operational readiness and management measures verification reviews will continue throughout the various phases of plant construction and, upon completion of these subsequent phases, additional notices of the operation approval letters will be published in the Federal Register in accordance with 10 CFR 70.32(k).

II. Further Information

Documents related to this action, including the application for amendment and supporting documentation, are available online in the NRC Library at http://www.nrc.gov/reading-rm/adams.html. From this site, you can access the NRC's Agencywide Document Access and Management System (ADAMS), which provides text and image files of NRC's public documents. Inspection reports associated with the approval letters are referenced in the letters and are also available electronically in ADAMS. Accession numbers for the approval letters are being noticed here as follows:

NRC Cascades Authorization Letters
Authorization letters | Date | ADAMS accession No.
Cascade numbered 2.9 | September 28, 2012 | ML12272A189
Cascade numbered 2.10 | September 14, 2012 | ML12261A040
Cascade numbered 2.11 | August 24, 2012 | ML12237A190
Cascade numbered 2.12 | July 16, 2012 | ML12198A121
Cascade numbered 3.1 | August 14, 2012 | ML12227A401
Cascade numbered 3.2 | September 25, 2012 | ML12269A155
Cascade numbered 3.3 | October 31, 2012 | ML12306A048
Cascade numbered 3.4 | October 31, 2012 | ML12306A048
Cascade numbered 3.5 | November 21, 2012 | ML12326A563
Cascade numbered 3.6 | December 20, 2012 | ML12355A171
Cascade numbered 3.7 | January 14, 2013 | ML13015A042
Cascade numbered 3.8 | February 13, 2013 | ML13044A527
Cascade numbered 3.9 | March 14, 2013 | ML13074A068

NRC Authorization Letters Related to the Cylinder Receipt and Dispatch Building
Authorization letters | Date | ADAMS accession No.
CRDB Chemistry Laboratory | January 16, 2013 | ML13016A011
CRDB Phase 2a | January 30, 2013 | ML13030A327

If you do not have access to ADAMS or if there are problems in accessing the documents located in ADAMS, contact the NRC Public Document Room (PDR) Reference staff at 1-800-397-4209, 301-415-4737 or by email to pdr.resource@nrc.gov.

These documents may also be viewed electronically on the public computers located at the NRC's PDR, O 1 F21, One White Flint North, 11555 Rockville Pike Rockville, MD 20852. The PDR reproduction contractor will copy documents for a fee.

Dated at Rockville, Maryland this 11th day of April.
For the Nuclear Regulatory Commission.
Brian W. Smith,
Chief, Uranium Enrichment Branch, Division of Fuel Cycle Safety, and Safeguards Office of Nuclear Material Safety, and Safeguards.

[FR Doc. 2013-09127 Filed 4-17-13; 8:45 am]

BILLING CODE 7590-01-P